DEPARTMENT OF COMMERCE

International Trade Administration

U.S. Department of Commerce Trade Finance Advisory Council; Notice of Meeting

AGENCY: International Trade Administration, U.S. Department of Commerce.

ACTION: Notice of an open meeting.

SUMMARY: The U.S. Department of Commerce Trade Finance Advisory Council (TFAC or Council) will hold a meeting via teleconference on Monday, September 18, 2017. The meeting is open to the public with registration instructions provided below.

The TFAC was chartered on August 11, 2016, to advise the Secretary in identifying effective ways to help expand access to finance for U.S. exporters, especially small and medium-sized enterprises, and their foreign buyers.

DATES: Monday, September 18, 2017, from approximately 2:00 p.m. to 3:00 p.m. Eastern Daylight Time (EDT). The deadline for members of the public to register, including requests for auxiliary aids, or to submit written comments for dissemination prior to the meeting, is 5:00 p.m. EDT on Monday, September 11, 2017. The final agenda will be posted on the Department of Commerce Web site for TFAC at http://trade.gov/tfac, at least one week in advance of the meeting.

ADDRESSES: The meeting will be held by conference call. The call-in number and passcode will be provided by email to registrants. Requests to register (including for auxiliary aids) and any written comments should be submitted via email to TFAC@trade.gov, or by mail to Ericka Ukrow, Office of Finance and Insurance Industries, U.S. Department of Commerce Trade Finance Advisory Council, Room 18002, 1401 Constitution Avenue NW., Washington, DC 20230. Members of the public are encouraged to submit registration requests and written comments via email to ensure timely receipt.

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

I. Background

On July 25, 2016, the Secretary of Commerce established the TFAC pursuant to discretionary authority and in accordance with the Federal Advisory Committee Act, as amended, 5 U.S.C. App. The TFAC advises the Secretary of Commerce in identifying effective ways to help expand access to finance for U.S. exporters, especially small- and medium-sized enterprises (SMEs) and their foreign buyers. The TFAC also provides a forum to facilitate the discussion between a diverse groups of stakeholders such as banks, non-bank financial institutions, other trade finance related organizations, and exporters, to gain a better understanding regarding current challenges facing U.S. exporters in accessing finance.

During the meeting on September 18, 2017, TFAC members are expected to deliberate and potentially adopt a letter outlining its recommendation for Secretary of Commerce on “Increasing Credit Capacity for U.S. SME Exporters.” A copy of the draft recommendation can be made available upon request to Ericka Ukrow at (202) 482-0405; email: Ericka.Ukrow@trade.gov.

II. Public Participation

The meeting will be open to the public and will be accessible to people with disabilities.

All guests are required to register in advance by the deadline identified under the DATES caption. Requests to register (including to speak or for auxiliary aids) and any written comments should be submitted, by the registration deadline, as explained under the ADDRESSES caption. Last minute requests will be accepted, but may not be possible to fill. There will be fifteen minutes allotted for oral comments from members of the public. Any member of the public may submit pertinent written comments concerning matters relevant to the TFAC's affairs at any time before or after the meeting. Comments may be submitted to Ericka Ukrow, at the contact information indicated above. To be considered during the meeting, comments must be received no later than 5:00 p.m. EDT on Monday, September 11, 2017, to ensure transmission to the Council prior to the meeting. Comments received after that date and time will be distributed to the members but may not be considered on the call. Comments and statements will be posted on the U.S. Department of Commerce Trade Finance Advisory Council Web site (http://trade.gov/TFAC) without change, including any business or personal information provided such as names, addresses, email addresses, or telephone numbers.

All comments and statements received, including attachments and other supporting materials, are part of the public record and subject to public disclosure. You should submit only information that you are prepared to have made publicly available.

III. Meeting Minutes

Copies of TFAC meeting minutes will be available within 90 days of the meeting.

Dated: August 29, 2017.
Paul Thanos,
Director, Office of Finance and Insurance Industries.

[FR Doc. 2017-18655 Filed 9-1-17; 8:45 am]

BILLING CODE P